DEPARTMENT OF ENERGY

Federal Energy Regulatory Commission

[Docket No. CP11-139-000]

Southern Natural Gas Company; Notice of Request Under Blanket Authorization

Take notice that on March 16, 2011, Southern Natural Gas Company (Southern), Post Office Box 2563, Birmingham, Alabama 35202-2563, filed in Docket No. CP11-139-000, an application pursuant to sections 157.205 and 157.216 of the Commission's Regulations under the Natural Gas Act (NGA) as amended, to abandon in place a supply lateral that extends from the Matagorda Island Area Block 696 Platform, offshore Texas to a subsea interconnect at Matagorda Island Area Block 665, under Southern's blanket certificate issued in Docket No. CP82-406-000,¹ all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

¹ 20 FERC ¶ 62,414 (1982).

Any questions concerning this application may be directed to Glenn A. Sheffield, Director, Rates and Regulatory, Southern Natural Gas Company, P.O. Box 2563, Birmingham, Alabama 35202-2563, via telephone at (205) 325-3813 or e-mail: glenn.sheffield@elpaso.com or Tina S. Hardy, Rates and Regulatory, P.O. Box 2563, Birmingham, Alabama 35202-2563, via telephone at (205) 325-3668 or e-mail: tina.hardy@elpaso.com.

Specifically, Southern proposes to abandon 10 miles of 10-inch diameter pipeline that extends from Apache Corporation's (Apache) Platform A in the Matagorda Island Area Block 696, offshore Texas to a subsea tie-in with the existing 24-inch Matagorda Offshore Pipeline System at Matagorda Island Area Block 665. Southern states the Apache Platform ceased production operations in October 2010 and Apache plans to remove the platform in the second quarter of 2011. Southern states it has provided interruptible transportation service for three shippers through the supply lateral in the last twelve months and each customer has provided written consent in support of the abandonment project. Southern also states that it would cost approximately $13.8 million to replicate the facilities today.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Persons who wish to comment only on the environmental review of this project should submit an original and two copies of their comments to the Secretary of the Commission. Environmental commenter's will be placed on the Commission's environmental mailing list, will receive copies of the environmental documents, and will be notified of meetings associated with the Commission's environmental review process. Environmental commenter's will not be required to serve copies of filed documents on all other parties. However, the non-party commentary, will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 7 copies of the protest or intervention to the Federal Energy Regulatory Commission, 888 First Street, NE., Washington, DC 20426.

Dated: March 25, 2011.
Kimberly D. Bose,
Secretary.

[FR Doc. 2011-7677 Filed 3-31-11; 8:45 am]

BILLING CODE 6717-01-P